DEPARTMENT OF TRANSPORTATION

Federal Aviation Administration

Agency Information Collection Activities: Requests for Comments; Clearance of Renewed Approval of Information Collection: Suspected Unapproved Parts Notification

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on May 9, 2012, vol. 77, no. 90, page 27271. The information collected on the FAA Form 8120-11 is used by those who wish to report suspected unapproved parts to the FAA for review.

DATES: Written comments should be submitted by August 20, 2012.

FOR FURTHER INFORMATION CONTACT: Kathy DePaepe at (405) 954-9362, or by email at: Kathy.A.DePaepe@faa.gov.

SUPPLEMENTARY INFORMATION:

OMB Control Number: 2120-0552.

Title: Suspected Unapproved Parts Notification.

Form Numbers: FAA Form 8120-11.

Type of Review: Renewal of an information collection.

Background: 49 U.S.C. 44701 empowers the Administrator of the FAA to provide reasonable rules and regulations for minimum standards governing the design, materials, construction, and performance of aircraft, engines, and propellers as may be required to ensure safety in air transportation. Submission of the Suspected Unapproved Parts Report, FAA Form 8120-11, is necessary to ensure that only FAA-approved parts are installed on type certificated aircraft, and that continued airworthiness is maintained.

Respondents: Approximately 150 manufacturers, repair stations, aircraft owner/operators, and air carriers.

Frequency: Information is collected on occasion.

Estimated Average Burden per Response: 30 minutes.

Estimated Total Annual Burden: 75 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on July 12, 2012.
Albert R. Spence,
FAA Assistant Information Collection Clearance Officer, IT Enterprises Business Services Division, AES-200.

[FR Doc. 2012-17614 Filed 7-18-12; 8:45 am]

BILLING CODE 4910-13-P